DEPARTMENT OF DEFENSE

Defense Acquisition Regulations System

48 CFR Part 252

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective May 30, 2024.

FOR FURTHER INFORMATION CONTACT: Ms. Jennifer D. Johnson, Defense Acquisition Regulations System, telephone 703-717-8226.

SUPPLEMENTARY INFORMATION: This final rule amends the DFARS to make needed editorial changes to update two outdated hyperlinks at DFARS 252.204-7012.

List of Subjects in 48 CFR Part 252

Government procurement.

Jennifer D. Johnson,
Editor/Publisher, Defense Acquisition Regulations System.

Therefore, 48 CFR part 252 is amended as follows:

1. The authority citation for 48 CFR part 252 continues to read as follows:

Authority: 41 U.S.C. 1303 and 48 CFR chapter 1.

PART 252—SOLICITATION PROVISIONS AND CONTRACT CLAUSES

2. Amend section 252.204-7012—

a. By revising the clause date;

b. In paragraph (b)(2)(i) by removing “http://dx.doi.org/10.6028/NIST.SP.800-171” and adding “https://csrc.nist.gov/publications/sp800” in its place; and

c. In paragraph (b)(2)(ii)(D) by removing “https://www.fedramp.gov/resources/documents/” and adding “https://www.fedramp.gov/documents-templates/.” in its place.

The revision reads as follows:

252.204-7012 Safeguarding Covered Defense Information and Cyber Incident Reporting.

* * * * *

Safeguarding Covered Defense Information and Cyber Incident Reporting (MAY 2024)

* * * * *

[FR Doc. 2024-11516 Filed 5-29-24; 8:45 am]

BILLING CODE 6001-FR-P